INTERNATIONAL TRADE COMMISSION

[Investigation Nos. 701-TA-566 and 731-TA-1342 (Final)]

Softwood Lumber Products From Canada; Revised Schedule for the Subject Investigations

AGENCY: United States International Trade Commission.

ACTION: Notice.

DATES: September 20, 2017.

FOR FURTHER INFORMATION CONTACT: Fred Ruggles (202-205-3187), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On June 30, 2017, the Commission established a schedule for the conduct of the final phase of the subject investigations (82 FR 32376, July 13, 2017). Subsequently, the Department of Commerce extended the date for its final determinations in the investigations from no later than September 6, 2017 to no later than November 13, 2017 (82 FR 41609, September 1, 2017). The Commission, therefore, is revising its schedule to conform with Commerce's new schedule.

The Commission's new schedule for the investigations is as follows: The deadline for filing posthearing briefs is September 25, 2017; the Commission will make its final release of information on November 30, 2017; and final party comments are due on December 4, 2017. Final comments shall only concern information disclosed to the parties after they have filed their posthearing briefs, pursuant to 19 CFR 207.30(b); the Commission has extended the page limit for such comments to not exceed 25 pages due to the particular circumstances of this proceeding.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: September 21, 2017.
Lisa R. Barton,
Secretary to the Commission.

[FR Doc. 2017-20621 Filed 9-26-17; 8:45 am]

BILLING CODE 7020-02-P